NUCLEAR REGULATORY COMMISSION

[Docket No. 52-039]

PPL Bell Bend, LLC; Bell Bend Nuclear Power Plant Combined License Application; Notice of Intent To Prepare an Environmental Impact Statement and Conduct Scoping Process

PPL Bell Bend, LLC has submitted an application for a combined license (COL) to build a new unit at its Bell Bend Nuclear Power Plant (BBNPP) Site, located west of the existing Susquehanna Steam Electric Station Site on approximately 882 acres in Luzerne County, Pennsylvania on the Susquehanna River, approximately five miles northeast of Berwick, Pennsylvania. PPL Bell Bend, LLC submitted the application for the COL to the U.S. Nuclear Regulatory Commission (NRC) by letter dated October 10, 2008, pursuant to Title 10 of the Code of Federal Regulations (10 CFR) Part 52. A notice of receipt and availability of the application, including the environmental report (ER), was published in the Federal Register on November 13, 2008 (73 FR 67214). A notice of acceptance for docketing of the application for the COL was published in the Federal Register on December 29, 2008 (73 FR 79519). A notice of hearing and opportunity to petition for leave to intervene in the proceeding on the application will be published in a future Federal Register notice. The purpose of this notice is (1) to inform the public that the NRC staff will be preparing an environmental impact statement (EIS) as part of the review of the application for the COL and (2) to provide the public with an opportunity to participate in the environmental scoping process as defined in 10 CFR 51.29. The U.S. Army Corps of Engineers (Corps), Baltimore District has requested to participate in the preparation of the EIS as a cooperating agency; the NRC has accepted its request. The agencies will cooperate according to the process set forth in the MOU signed by the NRC and the Corps and was published in the Federal Register on September 25, 2008 (73 FR 55546).

In addition, as outlined in 36 CFR 800.8(c), “Coordination with the National Environmental Policy Act” (NEPA) of 1969, as amended, the NRC staff plans to coordinate compliance with Section 106 of the National Historic Preservation Act (NHPA) with steps taken to meet the requirements of NEPA. Pursuant to 36 CFR 800.8(c), the NRC staff intends to use the process and documentation for the preparation of the EIS on the proposed action to comply with Section 106 of the NHPA in lieu of the procedures set forth on 36 CFR 800.3 through 800.6.

In accordance with 10 CFR 51.45 and 51.50, PPL Bell Bend, LLC submitted the environmental report (ER) as part of the application. The ER was prepared pursuant to 10 CFR Parts 51 and 52 and is available for public inspection at the NRC Public Document Room (PDR) located at One White Flint North, 11555 Rockville Pike (first floor), Rockville, Maryland 20852 or from the Publicly Available Records component of NRC's Agency-wide Documents Access and Management System (ADAMS). ADAMS is accessible at http://www.nrc.gov/reading-rm/adams.html which provides access through the NRC's Electronic Reading Room link. The accession number in ADAMS for the ER included in the application is ML082890680. Persons who do not have access to ADAMS or who encounter problems in accessing the documents located in ADAMS should contact the NRC's PDR Reference staff at 1-800-397-4209/301-415-4737 or by e-mail to pdr.resource@nrc.gov. The application may also be viewed on the Internet at http://www.nrc.gov/reactors/new-reactors/col/bell-bend.html. In addition, the Mill Memorial Public Library, 495 E Main Street, Nanticoke, PA 18634 and the McBride Memorial Library, 500 N Market Street, Berwick, PA 18603 have agreed to make the ER available for public inspection.

The following key reference documents related to the application and the NRC staff's review processes are available through the NRC's Web site at http://www.nrc.gov:

a. 10 CFR Part 51, Environmental Protection Regulations for Domestic Licensing and Related Regulatory Function;

b. 10 CFR Part 52, Licenses, Certifications, and Approvals for Nuclear Power Plants;

c. 10 CFR Part 100, Reactor Site Criteria;

d. NUREG-1555, Standard Review Plans for Environmental Reviews for Nuclear Power Plants;

e. NUREG/BR-0298, Brochure on Nuclear Power Plant Licensing Process;

f. Regulatory Guide 4.2, Preparation of Environmental Reports for Nuclear Power Stations;

g. Regulatory Guide 4.7, General Site Suitability Criteria for Nuclear Power Stations;

h. Fact Sheet on Nuclear Power Plant Licensing Process;

i. Regulatory 1.206, Combined License Applications for Nuclear Power Plants; and

j. Nuclear Regulatory Commission Policy Statement on the Treatment of Environmental Justice Matters in NRC Regulatory and Licensing Actions.

The regulations, NUREG-series documents, regulatory guides, and the fact sheet can be found under Document Collections in the Electronic Reading Room on the NRC Webpage. The environmental justice policy statement can be found in the Federal Register, 69 FR 52040, dated August 24, 2004.

This notice advises the public that the NRC intends to gather the information necessary to prepare an EIS as part of the review of the application for COL at the BBNPP Site. Possible alternatives to the proposed action (issuance of the COL for the BBNPP) include no action, reasonable alternative energy sources, and alternate sites. As set forth in 10 CFR 51.20(b)(2), issuance of a COL under 10 CFR Part 52 is an action that requires an EIS. This notice is being published in accordance with NEPA and the NRC's regulations in 10 CFR Part 51.

The NRC will first conduct a scoping process for the EIS and as soon as practicable thereafter will prepare a draft EIS for public comment. Participation in this scoping process by members of the public and local, State, Tribal, and Federal government agencies is encouraged. The scoping process for the draft EIS will be used to accomplish the following:

a. Define the proposed action that is to be the subject of the EIS;

b. Determine the scope of the EIS and identify the significant issues to be analyzed in depth;

c. Identify and eliminate from detailed study those issues that are peripheral or that are not significant;

d. Identify any environmental assessments and other EISs that are being or will be prepared that are related to but are not part of the scope of the EIS being considered;

e. Identify other environmental review and consultation requirements related to the proposed action;

f. Identify parties consulting with the NRC under the NHPA, as set forth in 36 CFR 800.8(c)(1)(i);

g. Indicate the relationship between the timing of the preparation of the environmental analyses and the Commission's tentative planning and decision-making schedule;

h. Identify any cooperating agencies and, as appropriate, allocate assignments for preparation and schedules for completing the EIS to the NRC and any cooperating agencies; and

i. Describe how the EIS will be prepared, including any contractor assistance to be used.

The NRC invites the following entities to participate in the scoping process:

a. The applicant, PPL Bell Bend, LLC;

b. Any Federal agency that has jurisdiction by law or special expertise with respect to any environmental impact involved or that is authorized to develop and enforce relevant environmental standards;

c. Affected State and local government agencies including those authorized to develop and enforce relevant environmental standards;

d. Any affected Indian tribe;

e. Any person who requests or has requested an opportunity to participate in the scoping process; and

f. Any person who intends to petition for leave to intervene in the proceeding, or who has submitted such a petition, who is admitted as a party.

In accordance with 10 CFR 51.26, the scoping process for an EIS may include a public scoping meeting to help identify significant issues related to a proposed activity and to determine the scope of issues to be addressed in an EIS. The NRC will hold a public scoping meeting for the EIS regarding the PPL Bell Bend, LLC COL application. The scoping meeting will be held at the Berwick Area Senior High School, 1100 Fowler Avenue, Berwick, Pennsylvania 18603-3799 on Thursday, January 29, 2009. The meeting will convene at 7 p.m. and will continue until approximately 10 p.m. The meeting will be transcribed and will include the following: (1) An overview by the NRC staff of the NEPA environmental review process, the proposed scope of the EIS, and the proposed review schedule; and (2) the opportunity for interested government agencies, organizations, and individuals to submit comments or suggestions on the environmental issues or the proposed scope of the EIS. Additionally, the NRC staff will host informal discussions for one hour prior to the start of each public meeting. No formal comments on the proposed scope of the EIS will be accepted during the informal discussions. To be considered, comments must be provided either at the transcribed public meeting or in writing, as discussed below.

Persons may register to attend or present oral comments at the meeting on the scope of the NEPA review by contacting either Mrs. Stacey Imboden or Ms. Tomeka Terry by telephone at 1-800-368-5642, extensions 2462 or 1488, or by e-mail to the NRC at BBNP.COLEIS@nrc.gov no later than January 22, 2009. Members of the public may also register to speak at the meeting prior to the start of the session. Individual oral comments may be limited by the time available, depending on the number of persons who register. Members of the public who have not registered may also have an opportunity to speak, if time permits. Public comments will be considered in the scoping process for the EIS. If special equipment or accommodations are needed to attend or present information at the public meeting, the need should be brought to Mrs. Imboden's attention no later than January 15, 2009, so that the NRC staff can determine whether the request can be accommodated.

Members of the public may send written comments on the scope of the BBNPP COL environmental review to the Chief, Rulemaking, Editing and Directives Branch, Division of Administrative Services, Office of Administration, Mailstop TWB-05-B01M, U.S. Nuclear Regulatory Commission, Washington, DC 20555-0001 and should cite the publication date and page number of this Federal Register notice. To ensure that comments will be considered in the scoping process, written comments must be postmarked or delivered by March 9, 2009. Electronic comments may be sent by e-mail to the NRC at BBNP.COLEIS@nrc.gov. Electronic submissions must be sent no later than March 9, 2009, to ensure that they will be considered in the scoping process. Comments will be made available electronically and will be accessible through the NRC's Electronic Reading Room link http://www.nrc.gov/reading-rm/adams.html. The NRC staff may, at its discretion, consider comments after the end of the comment period.

Participation in the scoping process for the EIS does not entitle participants to become parties to the proceeding to which the EIS relates. A notice of a hearing and opportunity to petition for leave to intervene in the proceeding on the application for COL will be published in a future Federal Register notice.

At the conclusion of the scoping process, the NRC staff will prepare a concise summary of the determination and conclusions reached on the scope of the environmental review including the significant issues identified, and will send this summary to each participant in the scoping process for whom the staff has an address. The staff will then prepare and issue for comment the draft EIS, which will be the subject of a separate Federal Register notice and a separate public meeting. Copies of the draft EIS will be available for public inspection at the PDR through the above-mentioned address and one copy per request will be provided free of charge. After receipt and consideration of comments on the draft EIS, the NRC will prepare a final EIS, which will also be available to the public.

Information about the proposed action, the EIS, and the scoping process may be obtained from either Mrs. Stacey Imboden at the U.S. Nuclear Regulatory Commission, Mail Stop T-6D38M, Washington, DC 20555-0001, by phone at 301-415-2462, or by e-mail at Stacey.Imboden@nrc.gov and/or Ms. Tomeka Terry at the U.S. Nuclear Regulatory Commission, Mail Stop T-6D38M, Washington, DC 20555-0001, by phone at 301-415-1488, or by e-mail at Tomeka.Terry@nrc.gov.

Dated at Rockville, Maryland, this 30th day of December 2008.
For the Nuclear Regulatory Commission.
Nilesh Chokshi,
Deputy Director, Division of Site and Environmental Reviews, Office of New Reactors.

[FR Doc. E8-31420 Filed 1-5-09; 8:45 am]

BILLING CODE 7590-01-P